POSTAL SERVICE

39 CFR Part 111

Domestic Mail Manual; Miscellaneous Amendments

AGENCY: Postal Service.

ACTION: Final rule.

SUMMARY: This document describes the numerous amendments consolidated in the Transmittal Letter for Issue 56 of the Domestic Mail Manual, which is incorporated by reference in the Code of Federal Regulations, see 39 CFR 111.1. These amendments reflect changes in mail preparation requirements and other miscellaneous rules and regulations not previously published in the Federal Register.

EFFECTIVE DATE: January 7, 2001.

FOR FURTHER INFORMATION CONTACT: Anne Emmerth, (703) 292-3641.

SUPPLEMENTARY INFORMATION: The Domestic Mail Manual (DMM), incorporated by reference in title 39, Code of Federal Regulations, part 111, contains the basic standards of the U.S. Postal Service governing its domestic mail services, descriptions of the mail classes and special services and conditions governing their use, and standards for rate eligibility and mail preparation. The document is amended and republished about once a year, with each issue sequentially numbered. Interim updates of the DMM are posted monthly on the USPS Postal Explorer Web site (http://pe.usps.gov). DMM Issue 56, the next printed edition, is scheduled for release on January 7, 2001. Issue 56 will contain all changes previously published in the Federal Register (including the changes to implement the R2000-1 Omnibus Rate Case, published in 65 FR 78538) and all changes listed below. The following excerpt from section I010, Summary of Changes, of the transmittal letter for DMM Issue 56 covers the minor changes not previously described in interim or final rules published in the Federal Register. Announcements of these minor changes were first published in various issues of the Postal Bulletin, an official biweekly document published by the Postal Service. Where sections have been changed or reorganized since original publication, both current and former section numbers are listed.

In addition, the revised table of contents of DMM Issue 56 is presented.

Domestic Mail Manual Issue 56

Summary of Changes

C. Characteristics and Content

C022.3.7 is clarified to allow a limited number of attendant honeybees to accompany each queen honeybee when air transportation is used. Effective 10-5-00.

C031.2.0 is revised and C031.6.0, 7.0, 8.0, 9.0, and 10.0 are added as a result of the Deceptive Mail Prevention and Enforcement Act, Public Law 106-168, 39 U.S.C., sub-section 3001. Effective 5-4-00.

C031.3.2 and 3.3 are revised to include changes to the standards governing advertising for lawful gambling activity. Effective 12-14-00.

C200.1.4b is revised to eliminate the requirement that the subscription receipts, requests, and order forms permitted as enclosures at Periodicals rates be limited to the host publication or a combination including the host publication and other Periodicals of the host's publisher. Effective 8-10-00.

C200.3.5 and C820.6.2 are amended and C600.1.2 is added to provide an exception to allow for short covers on certain publications. Effective 12-30-99.

C700.2.0 (former E630.1.4) is revised to clarify that the nonmachinable surcharge does not apply to perishable parcels (e.g., fruit) that meet the criteria for machinable parcels, provided that the packaging is sufficient to prevent both the contents and postal machinery from damage. Effective 12-14-00.

C820.4.3 is revised to remove the requirement that the polywrap product name appear as part of the marking on polywrapped automation flats. Effective 7-13-00.

C850.1.4 is amended to add information about integrated barcodes for special services. Effective 12-14-00.

D. Deposit, Collection, and Delivery

D010 is revised to allow on-call service for Parcel Post, to add a new payment option for pickup service fees, and to clarify existing standards for pickup service. Effective 2-10-00.

D010.3.2 is revised to correct the phone number for customers to request on-call pickup service. Effective 3-9-00.

D042.1.7g is amended to expand requirements for the hand stamp used by customers when signing for accountable mail. Effective 9-7-00.

D071.1.4 and 2.4 are added to clarify procedures for Priority Mail drop shipments. Effective 1-7-01.

E. Eligibility

E010.1.2 is amended to change the size limit of military space available mail (SAM) when mailed from an APO or FPO outside the contiguous 48 states. Effective 12-14-00.

E020.2.3 is revised to remove Delivery Confirmation service as an option for Department of State mail. Effective 5-4-00.

E060.11.1 and 12.2 (former 12.10) are amended to reflect changes in the way that federal agencies pay for business reply mail and merchandise return service. Effective 11-2-00.

E110.4.1, E140.1.1, E610.2.1 (former E612.2.1), E610.6.1 (former E612.4.7), E610.8.0 (former E612.4.9), and E640.1.1 are amended to support the 3-year NetPost Mailing Online experiment. Effective 9-1-00.

E110.4.1, E610.6.1, and E711.2.3 are revised to allow customers to renew fee payments at any time during the last 60 days of the current period. Effective 1-7-01.

E130.3.1, E140.1.1, E140.1.4, E140.2.2, E230.1.1, E230.2.1, E220.2.1 (former E230.3.0), E220.2.2 (former E230.4.0), E220.2.3 (former E230.5.0), E230.3.1, E240.1.1, E240.2.1, E240.2.2, E240.2.3, E250.2.1, E620.1.1, E620.2.0, E630.1.0 (former E620.2.1), E630.2.1 (former E620.2.8), E640.1.1, E640.1.4, E640.2.3, E650.6.2, and E650.7.2 are amended to implement combined automation rate and carrier route mail for Periodical and Standard Mail; to revise pallet preparation standards for Periodicals, Standard Mail, and Package Services; to allow mailers of flat-size First-Class Mail, nonletter-size Periodicals, and flat-size Standard Mail to combine packages of automation rate mail and packages of Presorted rate mail in the same sack or tray under certain conditions; to allow mailers of nonletter-size Periodicals and flat-size Standard Mail to combine carrier route packages, 5-digit automation rate packages, and 5-digit Presorted rate packages in the same sack (merged 5-digit scheme sack or merged 5-digit sack) or on the same pallet (merged 5-digit scheme pallet or merged 5-digit pallet) under certain conditions using the Carrier Route Indicators field in the City State Product; to allow mailers of nonletter-size Periodicals and flat-size Standard Mail to combine carrier route packages, 5-digit automation rate packages, and 5-digit Presorted rate packages on the same pallet (merged 5-digit scheme pallet or merged 5-digit pallet) under certain conditions using either a 5 percent threshold for 5-digit sorted mail or a combination of a 5 percent threshold for 5-digit sorted mail and the Carrier Route Indicators field in the City State Product. Effective 1-7-01.

E211.10.5e is revised to make optional the publication of a subscription price in the identification statement of a Periodicals publication. Effective 9-7-00.

E230.2.1 is revised to require that basic carrier route Periodicals be sequenced in line-of-travel (LOT) order. Effective 1-7-01.

E230.2.1 is revised to change preparation of nonautomation nonletter-size carrier route Periodicals prepared in sacks and the preparation of Periodicals packages and bundles on pallets. Effective 1-7-01.

E200 is reorganized into E220, E230, and E240 to show that Periodicals nonletter-size mailing jobs prepared in sacks that include both an automation flats mailing and a Presorted flats mailing must use the co-sacking method in M910. Under this co-sacking method, packages of automation flats and packages of Presorted rate mail that are part of the same mailing job are sorted into the same sacks for all sack presort levels. Standardized documentation or documentation produced by PAVE-certified software must be used. In addition, the sacks must be prepared with barcoded sack labels. Effective 1-7-01.

E612.3.4 is deleted to provide an exception to allow for short covers on certain publications. Effective 12-30-99.

Exhibit E711.2.2 (former E630.1.3) is amended to correct a ZIP Code for Parcel Post Intra-BMC rate eligibility. Effective 12-14-00.

E650.3.8 and E751.4.7 (former E652.4.7) are revised and E751.4.9 (former E652.4.9) is added to clarify procedures for making appointments for drop shipments. Effective 4-6-00.

E650.3.0 and E751.4.0 (former E652.4.0) are revised to change the minimum frequency for recurring appointments from once a month to once a week. Effective 3-12-00.

E751 Exhibit 7.0 (former E652 Exhibit 7.0) is amended to delete a ZIP Code for Parcel Post destination entry mailings. Effective 1-13-00, 5-4-00, 6-1-00, and 12-14-00.

E751 Exhibit 8.0 (former E652 Exhibit 8.0) is amended to add a ZIP Code for Parcel Post destination entry mailings. Effective 1-13-00, 4-6-00, 5-4-00, 8-10-00, 11-16-00, and 12-14-00.

E670.5.0 is amended to clarify the rules for substantially related advertising in Nonprofit Standard Mail. Effective 2-10-00.

E670.5.11 is revised to reflect an increase for low-cost products mailable at Nonprofit Standard Mail rates. Effective 1-1-00.

F. Forwarding and Related Services

F030.1.2 is amended to show that obsolete ancillary service endorsements are considered invalid. If discovered in the mailstream, pieces bearing an invalid ancillary service endorsement or conflicting endorsements are treated as unendorsed mail. Effective 1-1-01.

G. General Information

G043 is amended to add an address for Delivery Operations Systems. Effective 11-2-00.

G090 is deleted to provide for the bulk weight-averaging of nonletter-size business reply mail as a permanent classification. Effective 2-6-00.

G091 is added to support the 3-year NetPost Mailing Online experiment. Effective 9-1-00.

G094 is added to create a new classification and rate for the Periodicals Ride-Along experiment. Effective 2-26-00.

G094.1.3 is revised to reflect that Periodicals mailpieces that include a Ride-Along piece must maintain uniform thickness. Effective 5-4-00.

L. Labeling Lists

L001 is amended to implement combined automation rate and carrier route mail for Periodicals and Standard Mail; to revise pallet preparation standards for Periodicals, Standard Mail, and Package Services; to allow mailers of flat-size First-Class Mail, nonletter-size Periodicals, and flat-size Standard Mail to combine packages of automation rate mail and packages of Presorted rate mail in the same sack or tray under certain conditions; to allow mailers of nonletter-size Periodicals and flat-size Standard Mail to combine carrier route packages, 5-digit automation rate packages, and 5-digit Presorted rate packages in the same sack (merged 5-digit scheme sack or merged 5-digit sack) or on the same pallet (merged 5-digit scheme pallet or merged 5-digit pallet) under certain conditions using the Carrier Route Indicators field in the City State Product; to allow mailers of nonletter-size Periodicals and flat-size Standard Mail to combine carrier route packages, 5-digit automation rate packages, and 5-digit Presorted rate packages on the same pallet (merged 5-digit scheme pallet or merged 5-digit pallet) under certain conditions using either a 5 percent threshold for 5-digit sorted mail or a combination of a 5 percent threshold for 5-digit sorted mail and the Carrier Route Indicators field in the City State Product. Effective 1-7-01.

L001, L002, L003, L004, and L801 are amended to reflect changes in mail processing operations. Effective 11-16-00.

L001, L002, L003, L004, L005, L601, L603, L605, L801, L802, and L803 are amended to reflect changes in mail processing operations. Effective 8-10-00.

L002, L004, L005, L601, L603, L604, and L802 are amended to reflect changes in mail processing operations. Effective 6-15-00.

L004, L601, L602, L603, L604, L605, L801, and L803 are amended to reflect changes in mail processing operations. Effective 5-4-00.

L001, L002, L004, L005, L801, and L803 are amended to reflect changes in mail processing operations. Effective 2-24-00.

M. Mail Preparation and Sortation

M011.1.2, M011.1.3, M031.4.4, M031.4.7, M031.4.8, M031.4.12, M031.5.0, M032.1.1, M032.1.2, Exhibit M032.1.3, M032.2.4, M033.1.7, M033.1.8, M041.5.1, M041.5.2, M041.5.6, M041.6.2, M041.6.3, M041.6.4, M045.3.0, M045.4.1, M045.4.2, M045.4.3, M045.4.4, M045.6.1, M045.6.2, M045.8.1, M045.8.4, M130.1.1, M210.1.0 (former M200.1.1), M610.1.1, M620.1.1, and M820.1.9 are amended and M130.1.6, M210.1.6 (former M200.1.6), M220.1.6 (former M200.1.7), M610.1.5, M610.1.6, M620.1.6, M820.1.10, M910, M920, M930, M940 are added to implement combined automation rate and carrier route mail for Periodicals and Standard Mail; to revise pallet preparation standards for Periodicals, Standard Mail, and Package Services; to allow mailers of flat-size First-Class Mail, nonletter-size Periodicals, and flat-size Standard Mail to combine packages of automation rate mail and packages of Presorted rate mail in the same sack or tray under certain conditions; to allow mailers of nonletter-size Periodicals and flat-size Standard Mail to combine carrier route packages, 5-digit automation rate packages, and 5-digit Presorted rate packages in the same sack (merged 5-digit scheme sack or merged 5-digit sack) or on the same pallet (merged 5-digit scheme pallet or merged 5-digit pallet) under certain conditions using the Carrier Route Indicators field in the City State Product; to allow mailers of nonletter-size Periodicals and flat-size Standard Mail to combine carrier route packages, 5-digit automation rate packages, and 5-digit Presorted rate packages on the same pallet (merged 5-digit scheme pallet or merged 5-digit pallet) under certain conditions using either a 5 percent threshold for 5-digit sorted mail or a combination of a 5 percent threshold for 5-digit sorted mail and the Carrier Route Indicators field in the City State Product. Effective 1-7-01.

M011.1.3, M020.2.1, and M810.2.1 are amended and M011.1.3z is added to allow the option for mailers to use a tic mark in lieu of separator cards for First-Class Mail and Standard Mail (A) automation mailings and separator cards or rubber bands in Periodicals and Standard Mail (A) nonautomation carrier route mailings prepared in full 5-digit carrier routes trays. Effective 4-6-00.

M012.2.1b is amended to clarify an alternative location for rate markings on First-Class Mail and Standard Mail (A). Effective 2-10-00.

M013.2.3 is deleted to remove the requirement that optional endorsement lines be right-justified. Effective 4-6-00.

M013.1.1, M032 Exhibit 1.3a, M130, and M610 are revised to add optional “manual” processing instructions for nonautomation mail. Effective 4-1-00.

M013.1.1, M050.3.4, M050.4.1, and M220.1.0 (former M200.1.3) are revised to require that basic carrier route Periodicals be sequenced in line-of-travel (LOT) order. Effective 1-7-01.

M031.1.3, M032.1.3c, M032 Exhibit 1.3a, M045.3.5, M073.1.6, M610.4.8, M610.5.3, M722.2.5 (former M630.2.6), M730.2.3 (former M630.4.6), M740.2.3 (former M630.5.6), and M710.4.3 (former M630.6.3) are amended and M031.4.10 is deleted to remove references to line 2 processing codes. Effective 8-10-00.

M041.3.1 and M041.5.5 are amended to lower the maximum pallet height from 77 inches to 72 inches for Periodicals, Standard Mail (A), and Standard Mail (B) entered at Fairbanks and Anchorage, Alaska. Effective 11-2-00.

M072 is revised to change and clarify procedures for Priority Mail drop shipments. Effective 1-7-01.

M810.1.8 is added and M810.1.3 is revised to implement standardized acceptance and verification (SAVE) procedures. Effective 7-13-00.

M011.1.3, M033.1.8, M041.5.2, M045.3.1, M210.1.5 (former M200.1.5), and M220.1.5 (former M200.3.1) are revised to change preparation of nonautomation nonletter-size carrier route Periodicals prepared in sacks and the preparation of Periodicals packages and bundles on pallets. Effective 1-7-01.

M820.1.8, M820.1.9, M820.3.0, M920.1.1, M920.1.2, M920.1.3, M930.1.1, M930.1.4, M940.1.1, and M940.1.4 are revised and M200 is reorganized into M210 and M220 to show that Periodicals nonletter-size mailing jobs prepared in sacks that include both an automation flats mailing and a Presorted flats mailing must use the co-sacking method in M910. Under this co-sacking method, packages of automation flats and packages of Presorted rate mail that are part of the same mailing job are sorted into the same sacks for all sack presort levels. Standardized documentation or documentation produced by PAVE-certified software must be used. In addition, the sacks must be prepared with barcoded sack labels. Effective 1-7-01.

P. Postage and Payment Methods

P012.2.2, P012.2.4, and P012.2.5 are amended to implement combined automation rate and carrier route mail for Periodical and Standard Mail; to revise pallet preparation standards for Periodicals, Standard Mail, and Package Services; to allow mailers of flat-size First-Class Mail, nonletter-size Periodicals, and flat-size Standard Mail to combine packages of automation rate mail and packages of Presorted rate mail in the same sack or tray under certain conditions; to allow mailers of nonletter-size Periodicals and flat-size Standard Mail to combine carrier route packages, 5-digit automation rate packages, and 5-digit Presorted rate packages in the same sack (merged 5-digit scheme sack or merged 5-digit sack) or on the same pallet (merged 5-digit scheme pallet or merged 5-digit pallet) under certain conditions using the Carrier Route Indicators field in the City State Product; to allow mailers of nonletter-size Periodicals and flat-size Standard Mail to combine carrier route packages, 5-digit automation rate packages, and 5-digit Presorted rate packages on the same pallet (merged 5-digit scheme pallet or merged 5-digit pallet) under certain conditions using either a 5 percent threshold for 5-digit sorted mail or a combination of a 5 percent threshold for 5-digit sorted mail and the Carrier Route Indicators field in the City State Product. Effective 1-7-01.

P014.2.11 is amended to clarify the standards for business reply mail. Effective 11-2-00.

P014.2.4 is amended to allow refunds for mailing fees for all classes of mail. Effective 8-10-00.

P014.2.7 is revised to clarify that in some cases refunds may be made for unused adhesive stamps. Effective 3-9-00.

P014.5.0 is revised and S500.2.0 is deleted to rewrite standards for Express Mail postage refunds. Effective 7-13-00.

P040.5.1 is amended to add an exception to the minimum quantity required for a permit imprint mailing. Effective 11-2-00.

P960.2.3 is revised to implement standardized acceptance and verification (SAVE) procedures. Effective 7-13-00.

R. Rates and Fees

R600.5.4 (formerly R600.8.5) is added to include computed rates for the Standard Mail (A) weighted fee. Effective 6-1-00.

R900 is amended to provide for the bulk weight-averaging of nonletter-size business reply mail as a permanent classification. Effective 2-6-00.

R900.4.0 is amended to clarify the rates for business reply mail. Effective 11-2-00.

R900.22.0 is revised to add changes related to the new signature capture process and electronic record management system. Effective 5-4-00.

S. Special Services

S500.2.0 is deleted to rewrite standards for Express Mail postage refunds. Effective 7-13-00.

S911.2.2 is revised to clarify standards for registered pieces that are paid with permit imprint as part of a manifest mailing. Effective 6-1-00.

S913.2.5, S918.3.4, and S918.4.0 are amended to add information about integrated barcodes for special services. Effective 12-14-00.

S917.1.4 and 1.5 are deleted; S917.2.4, Exhibit S917.2.4, and S917.2.5 are added; and S911.3.4, S911 Exhibit 3.4, S911.3.5, S912.2.3, S912 Exhibit 2.3, S912.2.4, S913.2.3b, S913 Exhibit 2.3, S913.2.4, S921.2.1, and S921.3.2 are revised to include barcode requirements for new special service forms and labels. Effective 1-24-00.

S911.1.1, S912.1.1, S913.1.1, S915.1.1, S915.2.2, S915.4.0, S917.1.1, and S921.1.1 are revised to add changes related to the new signature capture process and electronic record management system. Effective 5-4-00.

S917.1.3, S918.1.6, and S923 are amended to allow the use of Delivery Confirmation service with certain other special services. Effective 1-13-00.

S918.1.3 is added to show the locations to which Delivery Confirmation service is not available. Effective 5-4-00.

S918.2.2 is amended to expand information on the placement of Delivery Confirmation labels. Effective 8-10-00.

S922 is amended to clarify the standards for business reply mail. Effective 11-2-00.

S922 is amended to provide for the bulk weight-averaging of nonletter-size business reply mail on a permanent basis. Effective 2-6-00.

S922.2.3, S922.3.3, S923.3.3, and S924.3.1 are revised to allow customers to renew fee payments at any time during the last 60 days of the current period. Effective 1-7-01.

S923.4.13 is added to clarify that merchandise return service permit holders may request pickup service. Effective 2-10-00.

List of Subjects in 39 CFR Part 111

Administrative practice and procedure, Postal Service.

In consideration of the foregoing, 39 CFR part 111 is amended as set forth below:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. The table at the end of § 111.3(f) is amended by adding at the end thereof a new entry to read as follows:

§ 111.3 Amendments to the Domestic Mail Manual.

* * * * *

(f) * * *

Transmittal letter for issue | Dated | Federal Register publication
* * * * * * *
56 | January 7, 2000 | 66 FR 8370

3. Section 111.5 is revised to read as follows:

§ 111.5 Contents of the Domestic Mail Manual.

A Addressing

A000 Basic Addressing

A010 General Addressing Standards

A040 Alternative Addressing Formats

A060 Detached Address Labels (DALs)

A800 Addressing for Automation

A900 Customer Support

A910 Mailing List Services

A920 Address Sequencing Services

A930 Other Services

A950 Coding Accuracy Support System (CASS)

C Characteristics and Content

C000 General Information

C010 General Mailability Standards

C020 Restricted or Nonmailable Articles and Substances

C021 Articles and Substances Generally

C022 Perishables

C023 Hazardous Materials

C024 Other Restricted or Nonmailable Matter

C030 Nonmailable Written, Printed, and Graphic Matter

C031 Written, Printed, and Graphic Matter Generally

C032 Sexually Oriented Advertisements

C033 Pandering Advertisements

C050 Mail Processing Categories

C100 First-Class Mail

C200 Periodicals

C500 Express Mail

C600 Standard Mail

C700 Package Services

C800 Automation-Compatible Mail

C810 Letters and Cards

C820 Flats

C830 OCR Standards

C840 Barcoding Standards for Letters and Flats

C850 Barcoding Standards for Machinable Parcels

D Deposit, Collection, and Delivery

D000 Basic Information

D010 Pickup Service

D020 Plant Load

D030 Recall of Mail

D040 Delivery of Mail

D041 Customer Mail Receptacles

D042 Conditions of Delivery

D070 Drop Shipment

D071 Express Mail and Priority Mail

D072 Metered Mail

D100 First-Class Mail

D200 Periodicals

D210 Basic Information

D230 Additional Entry

D500 Express Mail

D600 Standard Mail

D700 Package Services

D900 Other Delivery Services

D910 Post Office Box Service

D920 Caller Service

D930 General Delivery and Firm Holdout

E Eligibility

E000 Special Eligibility Standards

E010 Overseas Military Mail

E020 Department of State Mail

E030 Mail Sent by U.S. Armed Forces

E040 Free Matter for the Blind and Other Handicapped Persons

E050 Official Mail (Franked)

E060 Official Mail (Penalty)

E070 Mixed Classes

E080 Absentee Balloting Materials

E100 First-Class Mail

E110 Basic Standards

E120 Priority Mail

E130 Nonautomation Rates

E140 Automation Rates

E150 Qualified Business Reply Mail (QBRM)

E200 Periodicals

E210 Basic Standards

E211 All Periodicals

E212 Qualification Categories

E213 Periodicals Mailing Privileges

E214 Reentry

E215 Copies Not Paid or Requested by Addressee

E216 Publisher Records

E217 Basic Rate Eligibility

E220 Presorted Rates

E230 Carrier Route Rates

E240 Automation Rates

E250 Destination Entry

E270 Preferred Periodicals

E500 Express Mail

E600 Standard Mail

E610 Basic Standards

E620 Presorted Rates

E630 Enhanced Carrier Route Rates

E640 Automation Rates

E650 Destination Entry

E670 Nonprofit Standard Mail

E700 Package Services

E710 Basic Standards

E711 Parcel Post

E712 Bound Printed Matter

E713 Media Mail

E714 Library Mail

E715 Bulk Parcel Post

E750 Destination Entry

E751 Parcel Select

E752 Bound Printed Matter

E753 Combining Package Services Parcels

F Forwarding and Related Services

F000 Basic Services

F010 Basic Information

F020 Forwarding

F030 Address Correction, Address Change, FASTforward, and Return Services

G General Information

G000 The USPS and Mailing Standards

G010 Basic Business Information

G011 Post Offices and Postal Services

G013 Trademarks and Copyrights

G020 Mailing Standards

G030 Postal Zones

G040 Information Resources

G042 Rates and Classification Service Centers

G043 Address List for Correspondence

G090 Experimental Classifications and Rates

G091 NetPost Mailing Online

E094 Ride-Along Rate for Periodicals

G900 Philatelic Services

L Labeling Lists

L000 General Use

L001 5-Digit Scheme—Periodicals Flats and Irregular Parcels, Standard Mail Flats, and Bound Printed Matter Flats

L002 3-Digit ZIP Code Prefix Matrix

L003 3-Digit ZIP Code Prefix Groups—3-Digit Scheme Sortation

L004 3-Digit ZIP Code Prefix Groups—ADC Sortation

L005 3-Digit ZIP Code Prefix Groups—SCF Sortation

L600 Standard Mail and Package Services

L601 BMCs

L602 ASFs

L603 ADCs—Irregular Standard Mail Parcels

L604 Originating ADCs—Standard Mail Irregular Parcels

L605 BMCs/ASFs—Nonmachinable Parcel Post BMC Presort and OBMC Presort

L800 Automation Rate Mailings

L801 AADCs—Letter-Size Mailings

L802 BMC/ASF Entry—Periodicals and Standard Mail

L803 Non-BMC/ASF Entry—Periodicals and Standard Mail

M Mail Preparation and Sortation

M000 General Preparation Standards

M010 Mailpieces

M011 Basic Standards

M012 Markings and Endorsements

M013 Optional Endorsement Lines

M014 Carrier Route Information Lines

M020 Packages

M030 Containers

M031 Labels

M032 Barcoded Labels

M033 Sacks and Trays

M040 Pallets

M041 General Standards

M045 Palletized Mailings

M050 Delivery Sequence

M070 Mixed Classes

M071 Basic Information

M072 Express Mail and Priority Mail Drop Shipment

M073 Combined Mailings of Standard Mail and Package Services Parcels

M074 Plant Load Mailings

M100 First-Class Mail (Nonautomation)

M110 Single-Piece First-Class Mail

M120 Priority Mail

M130 Presorted First-Class Mail

M200 Periodicals (Nonautomation)

M210 Presorted Rates

M220 Carrier Route Rates

M500 Express Mail

M600 Standard Mail (Nonautomation)

M610 Presorted Standard Mail

M620 Enhanced Carrier Route Standard Mail

M700 Package Services

M710 Parcel Post

M720 Bound Printed Matter

M721 Single-Piece Bound Printed Matter

M722 Presorted Bound Printed Matter

M723 Carrier Route Bound Printed Matter

M730 Media Mail

M740 Library Mail

M800 All Automation Mail

M810 Letter-Size Mail

M820 Flat-Size Mail

M900 Advanced Preparation Options for Flats

M910 Co-Traying and Co-Sacking Package of Automation and Presorted Mailings

M920 Merged Containerization of Packages Using the City State Product

M930 Merged Palletization of Packages Using a 5% Threshold

M940 Merged Palletization of Packages Using the City State Product and a 5% Threshold

P Postage and Payment Methods

P000 Basic Information

P010 General Standards

P011 Payment

P012 Documentation

P013 Rate Application and Computation

P014 Refunds and Exchanges

P020 Postage Stamps and Stationery

P021 Stamped Stationery

P022 Postage Stamps

P023 Precanceled Stamps

P030 Postage Meters and Meter Stamps

P040 Permit Imprints

P070 Mixed Classes

P100 First-Class Mail

P200 Periodicals

P500 Express Mail

P600 Standard Mail

P700 Package Services

P900 Special Postage Payment Systems

P910 Manifest Mailing System (MMS)

P920 Optional Procedure (OP) Mailing System

P930 Alternate Mailing Systems (AMS)

P950 Plant-Verified Drop Shipment (PVDS)

P960 First-Class or Standard Mail Mailings With Different Payment Methods

R Rates and Fees

R000 Stamps and Stationery

R100 First-Class Mail

R200 Periodicals

R500 Express Mail

R600 Standard Mail

R700 Package Services

R900 Services

S Special Services

S000 Miscellaneous Services

S010 Indemnity Claims

S020 Money Orders and Other Services

S070 Mixed Classes

S500 Special Services for Express Mail

S900 Special Postal Services

S910 Security and Accountability

S911 Registered Mail

S912 Certified Mail

S913 Insured Mail

S914 Certificate of Mailing

S915 Return Receipt

S916 Restricted Delivery

S917 Return Receipt for Merchandise

S918 Delivery Confirmation

S919 Signature Confirmation

S920 Convenience

S921 Collect on Delivery (COD) Mail

S922 Business Reply Mail (BRM)

S923 Merchandise Return Service

S924 Bulk Parcel Return Service

S930 Handling

I INDEX INFORMATION

I000 Information

I010 Summary of Changes

I020 References

I021 Forms Glossary

I022 Subject Index

Stanley F. Mires,
Chief Counsel, Legislative.

[FR Doc. 01-2231 Filed 1-30-01; 8:45am]

BILLING CODE 7710-12-P